DEPARTMENT OF TRANSPORTATION

Surface Transportation Board

[STB Docket No. MC-F-21013]

Casino Transportation, Inc.—Acquisition of Control and Lease—Four Winds, Inc., d/b/a People's Choice Transportation, Inc.

AGENCY: Surface Transportation Board.

ACTION: Notice Tentatively Approving Finance Transaction.

SUMMARY: Casino Transportation, Inc. (CTI), a federally regulated motor passenger carrier (MC-279356), has filed an application under 49 U.S.C. 14303 to purchase the stock of and lease the operating authorities of Four Winds, Inc., d/b/a People's Choice Transportation, Inc. (People's Choice), also a federally regulated motor passenger carrier (MC-264768). Additionally, Craig Caldwell (Caldwell), Greg Waterman, and Robert Waterman (Watermans) seek authority to control both carriers and Joanne Lah (Lah) seeks limited control of certain elements of the operations of both carriers for a limited period of time. Persons wishing to oppose this application must follow the rules at 49 CFR 1182.5 and 1182.8. The Board has tentatively approved the transaction, and, if no opposing comments are timely filed, this notice will be the final Board action.

DATES: Comments must be filed by August 22, 2005. Applicants may file a reply by September 6, 2005. If no comments are filed by August 22, 2005, this notice is effective on that date.

ADDRESSES: Send an original and 10 copies of any comments referring to STB Docket No. MC-F-21013 to: Surface Transportation Board, 1925 K Street, NW., Washington, DC 20423-0001. In addition, send one copy of comments to CTI's representative: Charles M. Williams, Charles M. Williams, P.C., 303 East 17th Street, Suite 888, Denver, CO 80203.

FOR FURTHER INFORMATION CONTACT: Eric S. Davis, (202) 565-1608 [Federal Information Relay Service (FIRS) for the hearing impaired: 1-800-877-8339].

SUPPLEMENTARY INFORMATION: CTI is a Colorado corporation with gross revenues of over $4.65 million for the calendar year ending December 31, 2004. Caldwell and the Watermans are the sole shareholders of CTI. This arrangement will continue after approval and closing of this transaction. Caldwell and the Watermans will become officers and directors of CTI and People's Choice, and accordingly will control both companies.

People's Choice is a Colorado corporation with gross revenue of over $5.3 million for the calendar year ending December 31, 2004. In addition to its federal authorities, People's Choice also holds authorities issued by the Colorado Public Utility Commission. Lah is currently the sole shareholder of People's Choice; however, upon approval and closing, CTI will become the sole owner. Due to the terms of People's Choice Chapter 11 Bankruptcy Reorganization Plan, all of its authorities will continue to be owned by People's Choice, as a separate entity. However, CTI will lease those and other assets from People's Choice under a 5-year lease agreement. After Board approval and closing, CTI and Caldwell and the Watermans will execute shareholder voting agreements that will elect Lah to the board of directors of CTI and People's Choice, subject to certain conditions, until obligations of People's Choice to certain third parties that are guaranteed by Lah have been either paid in full or Lah has been released from liability for such obligations. While Lah is a member of the boards of directors of CTI and People's Choice, she will have certain veto rights.

Under 49 U.S.C. 14303(b), the Board must approve and authorize a transaction found to be consistent with the public interest, taking into consideration at least: (1) the effect of the transaction on the adequacy of transportation to the public; (2) the total fixed charges that result; and (3) the interest of affected carrier employees.

CTI has submitted information, as required by 49 CFR 1182.2, including the information to demonstrate that the proposed transaction is consistent with the public interest under 49 U.S.C. 14303(b). CTI states that the proposed transaction will have no impact on the adequacy of transportation services available to the public, that fixed charges associated with the proposed transaction will not be adversely impacted and that the interests of employees of People's Choice will not be adversely impacted. Additional information, including a copy of the application, may be obtained from CTI's representative.

On the basis of the application, we find that the proposed acquisition of control and lease of operating authority is consistent with the public interest and should be authorized. If any opposing comments are timely filed, this finding will be deemed vacated, and unless a final decision can be made on the record as developed, a procedural schedule will be adopted to reconsider the application. See 49 CFR 1182.6(c). If no opposing comments are filed by the expiration of the comment period, this notice will take effect automatically and will be the final Board action.

Board decisions and notices are available on our Web site at http://www.stb.dot.gov.

This decision will not significantly affect either the quality of the human environment or the conservation of energy resources.

It is ordered:

1. The proposed finance transaction is approved and authorized, subject to the filing of opposing comments.

2. If timely opposing comments are filed, the findings made in this notice will be deemed as having been vacated.

3. This notice will be effective August 22, 2005, unless timely comments are filed.

4. A copy of this notice will be served on: (1) the U.S. Department of Transportation, Federal Motor Carrier Safety Administration, 400 7th Street, SW., Room 8214, Washington, DC 20590; (2) the U.S. Department of Justice, Antitrust Division, 10th Street & Pennsylvania Avenue, NW., Washington, DC 20530; and (3) the U.S. Department of Transportation, Office of the General Counsel, 400 7th Street, SW., Washington, DC 20590.

Decided: June 30, 2005.
By the Board, Chairman Nober, Vice Chairman Buttrey, and Commissioner Mulvey.
Vernon A. Williams,
Secretary.

[FR Doc. 05-13438 Filed 7-7-05; 8:45 am]

BILLING CODE 4915-01-P